DEPARTMENT OF AGRICULTURE

Agricultural Marketing Service

[Doc. No. AMS-FGIS-21-0010]

United States Standards for Sorghum

AGENCY: Agricultural Marketing Service, USDA.

ACTION: Request for information.

SUMMARY: The United States Department of Agriculture's (USDA) Agricultural Marketing Service (AMS) is seeking comments from the public regarding the United States (U.S.) Standards for Sorghum under the United States Grain Standards Act (USGSA). To ensure that standards and official grading practices remain relevant, AMS invites interested parties to comment on whether the current sorghum standards and grading practices need to be changed.

DATES: We will consider comments we receive by June 24, 2021.

ADDRESSES: Interested persons are invited to submit written comments concerning this notice. All comments must be submitted through the Federal e-rulemaking portal at http://www.regulations.gov and should reference the document number and the date and page number of this issue of the Federal Register. Instructions for submitting and reading comments are detailed on the site. All comments submitted in response to this notice will be included in the record and will be made available to the public. Please be advised that the identity of the individuals or entities submitting comments will be made public on the internet at the address provided above.

FOR FURTHER INFORMATION CONTACT: Loren Almond, USDA AMS; Telephone: (816) 891-0422; email: Loren.L.Almond@usda.gov.

SUPPLEMENTARY INFORMATION: Section 4 of the USGSA (7 U.S.C. 76(a)) grants the Secretary of Agriculture the authority to establish standards for sorghum and other grains regarding kind, class, quality, and condition. The sorghum standards, established by USDA on December 1, 1924, were last revised in 2007 (72 FR 39732) and appear in the USGSA regulations at 7 CFR 810.1401-810.1405. The standards facilitate sorghum marketing and define U.S. sorghum quality in the domestic and global marketplace. The standards define commonly used industry terms; contain basic principles governing the application of standards, such as the type of sample used for a particular quality analysis; define the basis of determination; and specify grades and grade requirements. Official procedures for determining grading factors are provided in the Grain Inspection Handbook, Book II, Chapter 9, “Sorghum.” Together, the grading standards and official procedures allow buyers and sellers to communicate quality requirements, compare sorghum quality using equivalent forms of measurement, and assist in price discovery.

FGIS grading and inspection services are provided through a network of Federal, state, and private laboratories that conduct tests to determine the quality and condition of sorghum. These tests are conducted in accordance with applicable standards using approved methodologies and can be applied at any point in the marketing chain. Furthermore, the tests yield rapid, reliable, and consistent results. In addition, FGIS-issued certificates describing the quality and condition of graded sorghum are accepted as prima facie evidence in all federal courts. U.S. Standards for Sorghum and the affiliated grading and testing services offered by FGIS verify that a seller's sorghum meet specified requirements, and ensure that customers receive the quality of sorghum they purchased.

In order for U.S. standards and grading procedures for sorghum to remain relevant, AMS is issuing this request for information to invite interested parties to submit comments, ideas, and suggestions on all aspects of the U.S. Standards for Sorghum and official procedures.

Authority: 7 U.S.C. 71-87k.

Bruce Summers,
Administrator, Agricultural Marketing Service.

[FR Doc. 2021-06230 Filed 3-25-21; 8:45 am]

BILLING CODE P